DEPARTMENT OF TRANSPORTATION

Federal Aviation Administration

14 CFR Part 39

[Docket No. 99-SW-34-AD; Amendment 39-12452; AD 2000-10-08 R1]

RIN 2120-AA64

Airworthiness Directives; Eurocopter France Model SA-365N1, AS-365N2, and SA-366G1 Helicopters

AGENCY: Federal Aviation Administration, DOT.

ACTION: Final rule.

SUMMARY: This amendment revises an existing airworthiness directive (AD) for Eurocopter France (ECF) Model SA-365N1, AS-365N2, and SA-366G1 helicopters. That AD currently requires inspecting each tail rotor blade for bonding separation, measuring the clearance between the tip of each tail rotor blade and the circumference of the air duct, and replacing the blade if necessary. This amendment requires the same actions but allows the pilot to perform the daily visual check and contains a damage allowance for certain blades. This amendment is prompted by FAA determination that the pilot can check for a cracked, blistered, or wrinkled blade and that some debonding of the blade is acceptable. The actions specified by this AD are intended to allow a pilot check, to prevent unacceptable damage to a tail rotor blade, and to prevent loss of tail rotor control and subsequent loss of control of the helicopter.

EFFECTIVE DATE: November 7, 2001.

FOR FURTHER INFORMATION CONTACT: Sharon Miles, Aviation Safety Engineer, FAA, Rotorcraft Directorate, Regulations Group, Fort Worth, Texas 76193-0111, telephone (817) 222-5122, fax (817) 222-5961.

SUPPLEMENTARY INFORMATION: A proposal to amend 14 CFR part 39 by revising AD 2000-10-08, Amendment 39-11732 (65 FR 31256, May 17, 2000), for ECF Model SA-365N1, AS-365N2, and SA-366G1 helicopters, was published in the Federal Register on June 11, 2001 (66 FR 31189). The action proposed to revise AD 2000-10-08 to allow a “visual” check of each tail rotor blade for a crack, wrinkling, or a blister, within 10 hours time-in-service (TIS) and thereafter before the first flight of each day. Also proposed was allowing some debonding in blades, part number 365A12-0020-02 and 365A12-0020-03.

Interested persons have been afforded an opportunity to participate in the making of this amendment. No comments were received on the proposal or the FAA's determination of the cost to the public. The FAA has determined that air safety and the public interest require the adoption of the rule as proposed.

The FAA estimates that 136 helicopters of U.S. registry will be affected by this AD. If a tapping inspection is required, it will take approximately 1 work hour per helicopter to conduct, and the average labor rate is $60 per work hour. If necessary, replacing a blade would take approximately 4 hours and required parts would cost approximately $1,000 per helicopter. Based on these figures, the total cost impact of this AD on U.S. operators is estimated to be $176,800, assuming a blade must be replaced on each affected helicopter.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the FAA, Office of the Regional Counsel, Southwest Region, 2601 Meacham Blvd., Room 663, Fort Worth, Texas.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11732 (65 FR 31256, May 17, 2000), and by adding a new airworthiness directive (AD), Amendment 39-12452, to read as follows:

2000-10-08 R1 Eurocopter France: Amendment 39-12452. Docket No. 99-SW-34-AD. Revises AD 2000-10-08, Amendment 39-11732, Docket No. 99-SW-34-AD.

Applicability: Model SA-365N1, AS-365N2, and SA-366G1 helicopters, with a tail rotor blade, part number (P/N) 365A33-2131, 365A12-0010, or 365A12-0020, all dash numbers, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (e) of this AD. The request should include an assessment of the effect of the modification, alteration, or repair on the unsafe condition addressed by this AD; and if the unsafe condition has not been eliminated, the request should include specific proposed actions to address it.

Compliance: Required as indicated, unless accomplished previously.

To prevent damage to a tail rotor blade (blade), loss of tail rotor control, and subsequent loss of control of the helicopter:

(a) Within 10 hours time-in-service (TIS) and thereafter before the first flight of each day, visually check each blade (see Figure 1) for a crack, blister, or wrinkling. An owner/operator (pilot), holding at least a private pilot certificate, may perform the visual check and must enter compliance into the aircraft maintenance records in accordance with 14 CFR sections 43.11 and 91.417(a)(2)(v)).

(b) If a crack, blister, or wrinkling is found as a result of the visual check, accomplish the following before further flight (see Figure 1):

(1) Zone A: If a blister is detected on the blade suction face, conduct a tapping test inspection on the whole blade for bonding separation.

(i) For blades, P/N 365A33-2131—all dash numbers, 365A12-0010—all dash numbers, and 365A12-0020-00, and -01, if bonding separation or a crack is found, replace the blade with an airworthy blade before further flight.

(ii) For blades, P/N 365A12-0020-02, and -03, if bonding separation exceeds 900 mm² in a 30 × 30 mm square or if there is a crack, replace the blade with an airworthy blade before further flight.

(2) Zone B: If a crack, wrinkling, or a blister is found, replace the blade with an airworthy blade before further flight.

BILLING CODE 4910-13-U

BILLING CODE 4910-13-C

(c) Within 10 hours TIS, conduct a tapping test inspection on each blade. If there is bonding separation that exceeds the criteria in paragraph b(1) of this AD, replace the blade with an airworthy blade before further flight.

Note 2: Revisions 5 of Eurocopter France Service Bulletins 05.09 and 05.00.17, both dated December 18, 1998, pertain to the subject of this AD.

(1) Thereafter, at intervals not to exceed 25 hours TIS or every 50 cycles (each takeoff and landing equals 1 cycle), whichever occurs first, conduct a tapping test inspection for bonding separation on all blades with a serial number (S/N) less than 18912, and blades, P/N 365A12-0020-00 or 365A12-0020-01, with a S/N equal to or greater than 18912. If bonding separation or a crack is found, replace the blade with an airworthy blade before further flight.

(2) Thereafter, at intervals not to exceed 100 hours TIS or 200 cycles, whichever occurs first, conduct a tapping test inspection for bonding separation on blades, P/N 365A12-0020-02 or 365A12-0020-03. For Zone A, if bonding separation exceeds the criteria specified in paragraph (b)(1)(ii) of this AD or if a crack is found, replace the blade with an airworthy blade before further flight. For Zone B, if a crack, wrinkling, or a blister is found, replace the blade with an airworthy blade before further flight.

(d) Within 10 hours TIS, and thereafter at intervals not to exceed 100 hours TIS or 200 cycles, whichever occurs first, measure the blade-to-air duct clearance. If the clearance is less than 3 mm, replace the blade with an airworthy blade before further flight.

(e) An alternative method of compliance or adjustment of the compliance time that provides an acceptable level of safety may be used if approved by the Manager, Regulations Group, Rotorcraft Directorate FAA. Operators shall submit their requests through an FAA Principal Maintenance Inspector, who may concur or comment and then send it to the Manager, Regulations Group.

Note 3: Information concerning the existence of approved alternative methods of compliance with this AD, if any, may be obtained from the Regulations Group.

(f) Special flight permits may be issued in accordance with 14 CFR 21.197 and 21.199 to operate the helicopter to a location where the requirements of this AD can be accomplished.

(g) This amendment becomes effective on November 7, 2001.

Note 4: The subject of this AD is addressed in Direction Generale De L'Aviation Civile AD's 88-152-010(A)R5 and 88-153-023(A)R5, both dated December 30, 1998.

Issued in Fort Worth, Texas, on September 25, 2001.
David A. Downey,
Manager, Rotorcraft Directorate, Aircraft Certification Service.

[FR Doc. 01-24624 Filed 10-2-01; 8:45 am]

BILLING CODE 4910-13-U